DEPARTMENT OF HEALTH AND HUMAN SERVICES

Centers for Disease Control and Prevention

Disease, Disability, and Injury Prevention and Control Special Emphasis Panel (SEP): Competitive Supplemental Funds For Comprehensive STD Prevention Systems: Monitoring STD Prevalence and Reproductive Health Services For Adolescent Women in Special Settings

In accordance with section 10(a)(2) of the Federal Advisory Committee Act (Pub. L. 92-463), the Centers for Disease Control and Prevention (CDC) announces the following meeting.

Name: Disease, Disability, and Injury Prevention and Control Special Emphasis Panel (SEP): Competitive Supplemental Funds For Comprehensive STD Prevention Systems: Monitoring STD Prevalence and Reproductive Health Services For Adolescent Women in Special Settings, Program Announcement #99000-K, meeting.

Times and Date: 9 a.m.-9:30 a.m., March 8, 2001 (Open).

9:30 a.m.-4:30 p.m., March 8, 2001 (Closed).

Place: National Center for HIV, STD, and TB Prevention, CDC, 8 Corporate Square Blvd, Conference Room 1A, Atlanta, Georgia 30329.

Status: Portions of the meeting will be closed to the public in accordance with provisions set forth in section 552b(c)(4) and (6), Title 5 U.S.C., and the Determination of the Deputy Director for Program Management, CDC, pursuant to Public Law 92-463.

Matters To Be Discussed: The meeting will include the review, discussion, and evaluation of applications received in response to Program Announcement #99000-K.

Contact Person for More Information: Elizabeth A. Wolfe, Prevention Support Office, National Center for HIV, STD, and TB Prevention, CDC, Corporate Square Office Park, 8 Corporate Square Boulevard, M/S E07, Atlanta, Georgia 30329, telephone 404/639-8025.

The Director, Management Analysis and Services office has been delegated the authority to sign Federal Register notices pertaining to announcements of meetings and other committee management activities, for both the Centers for Disease Control and Prevention and the Agency for Toxic Substances and Disease Registry.

Dated: February 14, 2001.
Carolyn J. Russell,
Director, Management Analysis and Services Office, Centers for Disease Control and Prevention CDC.

[FR Doc. 01-4364 Filed 2-21-01; 8:45 am]

BILLING CODE 4163-18-P